DEPARTMENT OF ENERGY

Federal Energy Regulatory Commission

[Project No. 137-002]

Pacific Gas & Electric Company; Notice of Meetings

March 30, 2000.

Take notice the Ecological Resources subgroup of the Mokelumne Relicensing Collaborative will meet on April 12 and 13, 2000, from 9 a.m. to 5 p.m. The Recreation subgroup will meet on April 14, 2000, from 9 a.m. to 4 p.m. These meetings will be held at the PG&E offices, 2740 Gateway Oaks Drive, in Sacramento, California. Expected participants need to give their names to David Moller (PG&E) at (415) 973-4696.

For further information, please contact Diana Shannon at (202) 208-7774 or Tim Welch at (202) 219-2666.

Linwood A. Watson, Jr.,
Acting Secretary.

[FR Doc. 00-8293 Filed 4-4-00; 8:45 am]

BILLING CODE 6717-01-M